DEPARTMENT OF TRANSPORTATION

Federal Transit Administration

Notice of Limitation on Claims Against Proposed Public Transportation Projects

AGENCY: Federal Transit Administration (FTA), DOT.

ACTION: Notice of Limitation on Claims.

SUMMARY: This notice announces final environmental actions taken by the Federal Transit Administration (FTA) for the following projects: (1) Main Street Multi-Modal Access Project, Buffalo, New York; (2) Multi-modal Transit Facility, San Angelo, Texas; (3) East Corridor Project, Denver, Aurora, Adams County, Colorado; (4) Gold Line Corridor Project, Denver, Arvada, Wheat Ridge, Adams County, Jefferson County, Colorado; (5) Lackawanna Cut-off Passenger Rail Service Restoration Project, New Jersey Transit Corporation, New Jersey; (6) Pennsauken Junction Transit Center Park and Ride, Camden County, New Jersey; (7) Second Avenue Subway, modifications to the 72nd Street and 86th Street Station Entrances, New York, New York; (8) 35th Street Commuter Station, Chicago Illinois; (9) Provo Inter-modal Center, Provo City, Utah; (10) Southside Maintenance Facility Replacement Project, Norfolk, Virginia; (11) Knoxville Station Transit Center, Knoxville, Tennessee; and (12) AMTRAN Transit Facility Expansion Project, Altoona, Pennsylvania. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation projects will be barred unless the claim is filed on or before June 7, 2010.

FOR FURTHER INFORMATION CONTACT: Antoinette Quagliata, Environmental Protection Specialist, Office of Planning and Environment, 202-366-4265, or Christopher Van Wyk, Attorney-Advisor, Office of Chief Counsel, 202-366-1733. FTA is located at 1200 New Jersey Avenue, SE., Washington, DC 20590. Office hours are from 9 a.m. to 5:30 p.m., EST, Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA) and in other documents in the FTA administrative record for the project. Interested parties may contact either the project sponsor or the relevant FTA Regional Office for more information on these projects. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period of 180 days for challenges of project decisions subject to previous notices published in the Federal Register.

The projects and actions that are the subject of this notice are:

1. Project name and location: City of Buffalo Main Street Multi-modal Access and Revitalization Project, Buffalo, New York. Project sponsor: Niagara Frontier Transportation Authority (NFTA). Project description: The Project will reopen the 1.2-mile Main Street pedestrian mall in downtown Buffalo to vehicular traffic from Tupper Street to Scott Street. Two-way vehicular traffic will share NFTA's existing Light Rail Rapid Transit LRRT track bed. The Project also involves the reopening of cross streets that will facilitate the introduction of vehicular traffic within the Main Street right-of-way. Seven transit stations will be modified to allow vehicular access, while maintaining existing at-grade access by Light Rail Rapid Transit vehicles. This Project is part of an overall strategy to help revitalize downtown Buffalo. Final agency actions: Section 106 finding of no adverse effect; project-level air quality conformity determination; no use of Section 4(f) properties; and a Finding of No Significant Impact (FONSI) signed October 5, 2009. Supporting documentation: City of Buffalo Main Street Multi-Modal Access and Revitalization Project Environmental Assessment (EA) dated April 2009.

2. Project name and location: Multi-modal Transit Facility/Administration Facility, San Angelo, Texas. Project sponsor: Concho Valley Transit District. Project description: The Project will construct a combined multi-modal transit terminal and administration building. It will include a 7,200-square-foot structure, of which 6,000 square feet will be used for administrative/transit operations and customer service support centers, including the Concho Valley Transit District, which includes the San Angelo Street Railroad Company transit operations, Kerrville Coaches, and Concho Coaches; and 1,200 square feet will be used for joint development space. The transit terminal will include a 15-bay lot, where intercity vehicles will use one of three large head-in bays and local vehicles will use one of 12 pull-through bays. The bays will be arranged around the perimeter of the transit courtyard. Other uses of the multimodal terminal will include taxi parking, package express, customer pick-up/drop-off, parking for 65 vehicles, and transit vehicle storage for nine vehicles. Final agency actions: Section 106 finding of no adverse effect; no use of Section 4(f) properties; and a FONSI signed December 23, 2008. Supporting documentation: EA for the Concho Valley Multi-Modal Transit Terminal/Administration Building Project dated July 2006.

3. Project name and location: East Corridor Project, Denver, Aurora, Adams County, Colorado. Project sponsor: Regional Transportation District. Project description: The Project consists of an electric multiple unit commuter rail train and track system between Denver Union Station and Denver International Airport, located 23 miles northeast of downtown Denver. The Project alignment will operate on a double-track system using a combination of Union Pacific Railroad right of way, private property, and shared City and County of Denver and City of Aurora right of way. The new track will not be shared with existing or planned freight rail operations. East Corridor vehicles will use the shared alignment north of Denver Union Station to the commuter rail maintenance facility with the FasTracks' Gold Line, North Metro, and Northwest commuter rail corridors. Final agency actions: Section 106 Memorandum of Agreement dated September 2009; project-level air quality conformity determination; Section 4(f) determination; and a Record of Decision (ROD) signed November 6, 2009. Supporting documentation: Final Environmental Impact Statement (FEIS) for the East Corridor Project dated September 4, 2009.

4. Project name and location: Gold Line Corridor Project, Denver, Aurora, Adams County, Colorado. Project sponsor: Regional Transportation District. Project description: The Project consists of an 11.2-mile Electric Multiple Unit commuter rail system operating between Denver Union Station in downtown Denver and Ward Road in Wheat Ridge with seven stations. The Project alignment will operate primarily on a double-track system dedicated to commuter rail with no track being shared with freight rail operations. The Project from Denver Union Station to the commuter rail maintenance facility, shares the alignment with all of the FasTracks commuter rail corridors (East, North Metro, and Northwest Rail) for vehicle service at the commuter rail maintenance facility. Passenger service for the Gold Line and Northwest Rail share the alignment from Denver Union Station to Pecos Street. West of Pecos Street to Ward Road, the Project alignment separates from the Northwest Rail project and travels on its own alignment separate from the freight railroad to Ward Road. Final agency actions: Section 106 Memorandum of Agreement dated July 2009; project-level air quality conformity determination; Section 4(f) determination; and a ROD signed November 2, 2009. Supporting documentation: FEIS for the Gold Line Corridor Project dated August 21, 2009.

5. Project name and location: Lackawanna Cut-Off Passenger Rail Service Restoration Project; Morris, Warren, and Sussex Counties, New Jersey, and Northampton, Monroe, Wayne, and Lackawanna Counties, Pennsylvania. Project sponsor: New Jersey Transit Corporation. Project description: The Project proposes to restore rail passenger service on existing railroad right-of-way from Hoboken, New Jersey/midtown Manhattan to Pennsylvania. It will be constructed in two segments: a Minimal Operable Segment (MOS) and a non-MOS. The MOS consists of a 7.3-mile corridor with infrastructure improvements from Port Morris, NJ, to Andover, NJ, and the construction of Andover Station. The non-MOS includes the construction of seven new stations, an overnight train storage yard in Scranton, PA, a maintenance-of-way facility in Greendell, NJ, 20.7 miles of new track, and in Pennsylvania, improvement of approximately 60 miles of track for shared use with freight. Final agency actions: Section 106 Programmatic Agreement; project-level air quality conformity determination; Section 4(f) de minimis impact determination; and a revised FONSI signed October 2, 2009. Supporting documentation: Supplemental EA dated June 2009.

6. Project name and location: Pennsauken Junction Transit Center and Park and Ride, Pennsauken Township, New Jersey. Project sponsor: New Jersey Transit. Project description: The Project, a commuter rail transfer station, consists of the construction of a new rail transit center, including two new interconnected stations, a single, 200-foot long, floor-level platform with a 60-foot long canopy along the RiverLINE, two (2) 300-foot long, high-level, side platforms with 100-foot long canopies along the Atlantic City Rail Line, and a new 283-space commuter parking lot. An elevator and stair tower will connect the two stations. Final agency actions: Section 106 no adverse affect determination; project-level air quality conformity determination; Section 4(f) de minimis impact determination; and a FONSI signed October 5, 2009. Supporting documentation: Pennsauken Junction Transit Center and Park and Ride RiverLINE and Atlantic City Rail Line dated August 21, 2009.

7. Project name and location: Second Avenue Subway, changes to the 72nd Street and 86th Street Station Entrances, New York, New York. Project sponsor: Metropolitan Transportation Authority and New York City Transit. Project description: The project involves the design revisions of the northern entrances to the 72nd Street and 86th Street Stations. The 72nd Street Station design will relocate the proposed subway entrance at 305 East 72nd Street and a single, sidewalk elevator entrance to a newly constructed structure at 300 East 72nd Street. The new structure will house five elevators, replacing an existing four-story building. The 86th Street Station design will relocate the proposed subway entrance from within the building at 305 East 86th Street to two new locations in the sidewalk on the north side of East 86th Street east of Second Avenue. In the revised design, a total of four escalators, two escalators per entrance, will be constructed in the sidewalk. Final agency actions: Section 106 finding of no adverse effect; project-level air quality conformity determination; no use of Section 4(f) properties; and a FONSI signed October 29, 2009. Supporting documentation: Supplemental EA dated May 2009.

8. Project name and location: 35th Street Commuter Station, Chicago, Illinois. Project sponsor: Metra, Metropolitan Rail. Project description: This project will provide for a new commuter station at 35th Street along the existing Metra Rock Island District line in Chicago. The improvement will include the construction of a new station and platforms, sidewalks and pathways for pedestrian access, fencing, lighting, landscaping, fare collection facilities, and signage. Final agency actions: Section 106 finding of no adverse effect; project-level air quality conformity determination; no use of Section 4(f) properties; and a FONSI signed May 12, 2008. Supporting documentation: Metra-35th Street Station EA dated February 2008.

9. Project name and location: Provo Inter-modal Center, Provo City, Utah. Project sponsor: Utah Transit Authority. Project description: The proposed Provo Inter-modal Center will be located on 16.63 acres of land adjacent to and south of Utah Transit Authority's commuter rail right-of-way. The facilities to be constructed include the bus loading areas, the park-and-ride lot, and landscaping. The proposed action will consist of approximately 850 parking stalls, 10 bus bays, and landscaping. The bus bays will be located on the north side of the site near a commuter rail station platform. The facilities will also include bus shelters next to the bus bays or a full canopy covering all of the bus bays. Final agency actions: Section 106 Memorandum of Agreement; project-level air quality conformity determination; Section 4(f) evaluation and finding; and a FONSI signed July 7, 2009. Supporting documentation: EA for the Provo Inter-modal Center dated May 2009.

10. Project name and location: Southside Maintenance Facility Replacement Project, Norfolk, Virginia. Project sponsor: Hampton Roads Transit. Project description: The project consists of the demolition and reconstruction of a bus maintenance facility located at 509 18th Street. The reconstruction will include improved site access along 18th Street, additional lighting and improved ventilation for maintenance facilities, increased maintenance bay space from 14 feet to 20 feet wide, and improved site drainage to reduce significant flooding and contain runoff. Final agency actions: Section 106 finding of no adverse effect; project-level air quality conformity determination; no use of Section 4(f) properties; and a FONSI signed June 29, 2009. Supporting documentation: EA for the Southside Maintenance Facility Replacement dated May 2009.

11. Project name and location: Knoxville Station Transit Center, Knoxville, Tennessee. Project sponsor: City of Knoxville. Project description: The Knoxville Station Transit Center facility is proposed to be a multi-use, multi-story transit center that would house passenger waiting and transfer facilities for existing and projected future bus volumes (20 bus bays). In addition to the 20 bus bays, the center would also have passenger waiting and transfer facilities for shuttles, access to trolley and taxi service, bicycle facilities including bike racks, and passenger and driver amenities to include public restrooms, vending, and on-site security. Some of these amenities would be available on the platform. The main waiting area and the KAT customer service and administration offices will be housed in an adjacent station house occupying 15,000 square feet on two levels. The connection between the station house and the bus platform would be made accessible by a pedestrian bridge. Final agency actions: Section 106 finding of no adverse effect; project-level air quality conformity determination; Section 4(f) de minimis finding; and a FONSI signed September 21, 2007. Supporting documentation: EA for the Knoxville Central Station Transit Center Project dated July 2007.

12. Project name and location: AMTRAN Transit Facility Project, Altoona, Pennsylvania. Project sponsor: Transportation and Motor Buses for Public Use Authority (AMTRAN). Project description: The project will include the purchase of a 3.2-acre commercial lot with three abandoned vacant commercial buildings (two buildings will be updated to current building codes and one will be demolished); conversion of the former trolley barn building into a 6,840-square-foot bus storage facility with the capacity to store 8-12 vehicles and additional outside bus parking with open space for future expansion; creation of an additional 1,780 square feet of conference room space; preparation of approximately 2.3 acres of the site for related development including the demolition of a building; and the creation of a mini transfer hub. Final agency actions: Section 106 finding of no adverse effect; project-level air quality conformity determination; no use of Section 4(f) properties; and a FONSI signed April 7, 2008. Supporting documentation: EA for the AMTRAN Transit Facility Expansion Project dated February 1, 2008.

Issued on: December 2, 2009.
Susan Borinsky,
Associate Administrator for Planning and Environment, Washington, DC.

[FR Doc. E9-29374 Filed 12-8-09; 8:45 am]

BILLING CODE P